FEDERAL COMMUNICATIONS COMMISION

Notice of Public Information Collection(s) Being Reviewed By the Federal Communications Commission for Extension Under Delegated Authority 5 CFR 1320 Authority, Comments Requested

November 21, 2002.

SUMMARY: The Federal Communications Commission, as part of its continuing effort to reduce paperwork burden, invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 3, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov.

FOR FURTHER INFORMATION CONTACT: For additional information or copies of the information collection(s) contact Les Smith at 202-418-0217 or via the Internet at lesmith@fcc.gov.

SUPPLEMENTARY INFORMATION: OMB Control Number: 3060-0473.

Title: Section 74.1251, Technical and Equipment Modifications.

Form Number: N/A.

Type of Review: Extension of a currently approved collection.

Respondents: Business and other for-profit entities.

Number of Respondents: 100.

Estimated Time per Response: 30 mins. (0.50 hrs.).

Frequency of Response: Recordkeeping; On occasion reporting requirements.

Total Annual Burden: 50 hours.

Total Annual Costs: None.

Needs and Uses: 47 CFR 74.1251 requires station owners/licensees to certify compliance with technical requirements when they replace a transmitter without first seeking FCC approval. Additionally, section 74.1251 requires FM translator licensees to notify the FCC in writing of any changes in the primary FM station being retransmitted. The station owners use these records to provide the FCC with up-to-date information about modifications to their station's equipment.

OMB Control Number: 3060-0310.

Title: Registration Statement Required, Section 76.1801.

Form Number: N/A.

Type of Review: Extension of a currently approved collection.

Respondents: Business and other for-profit entities.

Number of Respondents: 600.

Estimated Time per Response: 15 mins. (0.25 hrs.).

Frequency of Response: One time reporting requirement.

Total Annual Burden: 150 hours.

Total Annual Costs: $28,200.

Needs and Uses: 47 CFR 76.1801 requires a registration statement be filed with the Commission before a system community unit is be authorized to commence operation. A system community unit is a cable television system, or portion of a cable television system, that operates within a separate and distinct community or municipal entity. The Commission staff use these data to maintain complete records on cable systems and to ensure compliance with our rules.

OMB Control Number: 3060-0288.

Title: Specific Temporary Authority (Cable Television Relay Stations), Section 78.33.

Form Number: N/A.

Type of Review: Extension of a currently approved collection.

Respondents: Business and other for-profit entities.

Number of Respondents: 35.

Estimated Time per Response: 140 hours.

Frequency of Response: On occasion reporting requirements.

Total Annual Burden: 1,500 hours.

Total Annual Costs: $4,585.

Needs and Uses: 47 CFR 76.1801 requires cable television relay stations (CARS) to file informal requests for special temporary authority to install and operate equipment in a manner different than the way normally authorized in the station license. The special temporary authority also may be used by cable operators and equipment suppliers to conduct field surveys to determine necessary data in connection with preparing a formal application for installation of a radio system, or to conduct equipment, program, service, and path tests.

OMB Control Number: 3060-0546.

Title: Definition of Markets for Purposes of the Cable Television Mandatory Television Broadcast Signal Carriage Rules.

From Number: N/A.

Type of Review: Extension of currently approved collection.

Respondents: Business or other for-profit entities.

Number of Respondents: 150.

Estimated Time per Response: 4 to 40 hours.

Total Annual Burden: 1,680 hours.

Frequency of Response: On occasion reporting requirement.

Total Annual Costs: $721,500.

Needs and Uses: On May 26, 1999, the Commission released an Order on Reconsideration and Second Report and Order (“Order”), which, among other things, established final rules for procedures for refining the market modification process by adopting a standardized evidence approach to the market modification process. The Order also made various changes to 47 CFR part 76, which concern the definitions applicable to the must carry rules and the specific information submission requirements for the market modification process.

OMB Control Number: 3060-0564.

Title: Cost accounting and cost allocation requirements, section 76.924.

From Number: N/A.

Type of Review: Extension of currently approved collection.

Respondents: Business or other for-profit entities.

Number of Respondents: 50.

Estimated Time per Response: 40 hours.

Total Annual Burden: 2,000 hours.

Frequency of Response: Recordkeeping; Third party disclosure.

Total Annual Costs: None.

Needs and Uses: 47 CFR 76.924 of FCC rules specifies cost accounting and cost allocation requirements for regulated cable operators. Section 76.924 was established as part of the cable rate regulation requirements set forth in the Cable Television Consumer Protection and Competition Act of 1992 (“1992 Cable Act”), which requires cable operators to rearrange their accounting records to comply with the requirements set forth in section 76.924. Because these requirements became effective July 21, 1993, existing cable operators are assumed to have already rearranged their accounting records and comply with this recordkeeping requirement. Cable operators use the information derived from their accounting records to complete their rate filings, while the local franchising authorities use it to review these rate filings.

OMB Control Number: 3060-0176.

Title: Experimental Authorizations, Section 73.1510.

Form Number: N/A.

Type of Review: Extension of a currently approved collection.

Respondents: Business and other for-profit entities.

Number of Respondents: 55.

Estimated Time per Response: 15 mins. (0.25 hrs.).

Frequency of Response: On occasion reporting requirements.

Total Annual Burden: 14 hours.

Total Annual Costs: $34,500.

Needs and Uses: 47 CFR 73.1510 requires that a licensee of an AM, FM, and TV broadcast station file an informal application with the FCC to request an experimental authorization to conduct technical experimentation directed toward improvement of the technical phases of operation and service. This request shall describe the nature and purpose of experimentation to be conducted, the nature of the experimental signal transmission, and the proposed hours and duration of the experimentation. FCC staff use these data to maintain complete technical information about a broadcast station and to ensure that such experimentation does not cause interference to other broadcast stations.

Federal Communications Commission.
Marlene H. Dortch,
Secretary.

[FR Doc. 02-30558 Filed 12-2-02; 8:45 am]

BILLING CODE 6712-01-P